DEPARTMENT OF TRANSPORTATION

Federal Aviation Administration

[Docket No. 2022-0176]

Agency Information Collection Activities: Requests for Comments; Clearance of Renewal Approval of Information Collection 2120-0776, Airspace Authorizations in Controlled Airspace

AGENCY: Federal Aviation Administration (FAA), DOT.

ACTION: Notice and request for comments.

SUMMARY: In accordance with the Paperwork Reduction Act of 1995, FAA invites public comments about our intention to request the Office of Management and Budget (OMB) approval to renew Information Collection 2120-0776. The Federal Register Notice with a 60-day comment period soliciting comments on the following collection of information was published on February 18, 2022. The FAA proposes renewal of the collection of information related to requests to operate small Unmanned Aircraft Systems (sUAS) in controlled airspace. FAA will use the collected information to make determinations whether to authorize or deny the requested authorization of sUAS operation in controlled airspace. The proposed information collection is necessary to issue such authorizations or denials consistent with the FAA's mandate to ensure safe and efficient use of national airspace.

DATES: Written comments should be submitted by August 10, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Victoria Gallagher by email at: Victoria.Gallagher@faa.gov; phone: 609-485-5127.

SUPPLEMENTARY INFORMATION: The FAA received three comments from the public. Two were supportive. The first was anonymous and expressed approval of the collection. The second supportive comment was from Airlines for America, which noted that the collection of such information can be used in furtherance of the FAA's regulatory approach for the seamless integration of UAS operations in the National Airspace System (NAS). Airlines for America commented that FAA must ensure adequate safety precautions to avoid collisions of UAS with manned aircraft and that the proposed collection will help identify compliant from noncompliant operations and further this safety model.

The final comment was from the Air Line Pilots Association, International (ALPA), which commented that the collection of information to process authorization requests has not been subject to sufficient safety risk evaluation and therefore cannot be fully determined whether the information collected is adequate to verify if safe operations can be conducted. Further, ALPA commented that it believes the FAA's current minimum requirements for information in a Low Altitude Authorization and Notification Capability (LAANC) application are not sufficient. According to ALPA, additional information including aircraft registration, make and model information, and post-flight information should be collected. In this Information Collection renewal request, the FAA proposes to use LAANC and the web portal to collect information that provides a means for small UAS operators operating under § 44809 to comply with § 44809's established requirements and safety processes. This proposed information collection is sufficient to meet safety standards and captures essential information.

ALPA also commented that the FAA has not determined through its Safety Management System process the risk that UAS operating in controlled airspace introduce to the NAS and, therefore, ALPA is unable to determine if the information collected is adequate. This second category of comments is substantially the same as comments that ALPA submitted in response to Information Collection 2120-0768's 60 Day Notice published on February 12, 2018 (83 FR 6082) and to the Notice of Proposed Rule Making that was eventually implemented as a final rule at 81 FR 42063 on June 28, 2016 and codified as 14 CFR part 107. The FAA analyzed the proposed information to be collected under § 44809 and determined that the information is adequate for the FAA to meet safety standards.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0776.

Title: Airspace Authorizations in Controlled Airspace under 49 U.S.C. 44809(a)(5).

Form Numbers: There are no forms associated with this collection.

Type of Review: Renewal of existing Information Collection.

Background: There has been an increased number of small UAS operating in the NAS in recent years, and regulations and statutes have been enacted to establish the use of small UAS in the NAS. Included in these is 49 U.S.C. 44809(a)(5), which states that a strictly recreational user of small UAS must have authorization from the FAA to fly a small UAS “in Class B, Class C, or Class D airspace or within the lateral boundaries of the surface areas of Class E airspace designated for an airport.” In order to process airspace authorization requests, the FAA requires the operator's name, the operator's contact information, and information related to the date, place, and time of the requested authorization, which can be up to twelve hours in length. This information is necessary for the FAA to meet its statutory mandate of maintaining a safe and efficient national airspace. See 49 U.S.C. 40103, 44701, and 44807. The FAA will use the requested information to determine if the proposed authorization to operate can be conducted safely.

The FAA proposes to use LAANC and an FAA web portal to process authorization requests from the public to conduct flight operations under 49 U.S.C. 44809(a)(5).

Respondents: Small UAS operators seeking to conduct flight operations under 49 U.S.C. 44809(a)(5) within controlled airspace. Between 2022-2025, the FAA estimates that it will receive a total of 757,380 requests for airspace authorization (735,416 through LAANC and 21,964 through the web portal).

Frequency: The requested information is necessary each time a respondent requests an airspace authorization to operate a small UAS under 49 U.S.C. 44809(a)(5) in controlled airspace.

Estimated Average Burden per Response: The FAA estimates the respondents using LAANC will take five (5) minutes per airspace authorization request and those using the web portal will take thirty (30) minutes per request.

Estimated Total Annual Burden: For airspace authorizations, the FAA estimates that the average annual burden will be 24,089 burden hours. This includes 20,428 burden hours for 245,139 LAANC respondents and 3,661 burden hours for 7,321 web portal respondents.

Issued in Washington, DC, on July, 5 2022.
Victoria Gallagher,
UAS LAANC Program Manager, AJM-337.

[FR Doc. 2022-14640 Filed 7-8-22; 8:45 am]

BILLING CODE 4910-13-P